DEPARTMENT OF TRANSPORTATION

Federal Aviation Administration

Proposed Advisory Circular 45-2B, Identification and Registration Marking

AGENCY: Federal Aviation Administration (FAA), DOT.

ACTION: Notice of availability.

SUMMARY: This notice announces the availability of Advisory Circular (AC) 45-2B, Identification and Registration Marking for review and comments. The proposed AC provides guidance and information to comply with the requirements for identifying aircraft and related products with identification plates, and identifying aircraft with nationality and registration marks. This AC provides a means, but not the only means, of demonstrating compliance with the requirements of Title 14, Code of Federal Regulations (14 CFR), part 45, Identification and Registration Marking.

DATES: Comments submitted must identify the proposed AC 45-2B and be received no later than 30 days after the date of this publication.

ADDRESSES: Copies of the proposed AC can be obtained from and comments may be returned to the following: Federal Aviation Administration, Airworthiness Certification Branch, AIR-220, Production and Airworthiness Division, Aircraft Certification Service, 800 Independence Avenue, SW., Washington, DC 20591.

FOR FURTHER INFORMATION CONTACT: David Broughton, Airworthiness Certification Branch, AIR-220, Production and Airworthiness Division, Aircraft Certification Service, 800 Independence Avenue, SW., Washington, DC 20591, (202) 267-9575.

SUPPLEMENTARY INFORMATION:

Background

Proposed AC 45-2B is written in the Plain Language format to provide information and guidance on the requirements of identifying aircraft and related products with identification plates, and identifying aircraft with nationality and registration marks.

Comments invited

Interested persons are invited to comment on proposed AC 45-2B listed on this notice by submitting such written data, views, or arguments, as they desire, to the aforementioned specified address. The Aircraft Certification Service will consider all communications received on or before the closing date before issuing the final AC.

Comments received on the proposed AC may be examined before and after the comment closing date in Room 815, FAA headquarters building, (FOB-10A), 800 Independence Avenue, SW., Washington, DC 20591, between 8:30 a.m. and 4:30 p.m.

Issued in Washington, DC, on August 15, 2002.
Frank P. Paskiewicz,
Manager, Production and Airworthiness Division.

[FR Doc. 02-21184 Filed 8-19-02; 8:45 am]

BILLING CODE 4910-13-M